NATIONAL FOUNDATION FOR THE ARTS AND THE HUMANITIES

National Endowment for the Arts; National Council on the Arts 156th Meeting

Pursuant to section 10(a)(2) of the Federal Advisory Committee Act (Pub. L. 92-463), as amended, notice is hereby given that a meeting of the National Council on the Arts will be held on November 4, 2005 from 9 a.m.-12 p.m. (ending time is tentative) in Room M-09 at the Nancy Hanks Center, 1100 Pennsylvania Avenue, NW., Washington, DC 20506.

This meeting will be open to the public on a space available basis. Following opening remarks and announcements, there will be an update on Congressional/White House activities. The meeting will include three presentations. The first will address the Creativity and Aging Study, with Paula Terry (NEA Director, AccessAbility), Dr. Gene Cohen (George Washington University), and Jeanne Kelly (Levine School of Music). The second will focus on Folk and Traditional Arts, with speakers Barry Bergey (NEA Director, Folk & Traditional Arts), Joe Wilson (National Center for Folk & Traditional Arts), and Wayne Henderson (NEA National Heritage Fellow, guitarist). The final presentation, led by Eileen B. Mason (NEA Senior Deputy Chairman) and Douglas Sonntag (NEA Director, Dance), will be on the Endowment's 40th anniversary. This will be followed by review and voting on applications and guidelines. The meeting will conclude with general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202-682-5532, TTY-TDD 202-682-5429, at least seven (7) days prior to the meeting.

Further information with reference to this meeting can be obtained from the Office of Communications, National Endowment for the Arts, Washington, DC 20506, at 202-682-5570.

Dated: October 12, 2005.
Kathy Plowitz-Worden,
Panel Coordinator, Office of Guidelines and Panel Operations.

[FR Doc. 05-20812 Filed 10-17-05; 8:45 am]

BILLING CODE 7537-01-P